FEDERAL COMMUNICATIONS COMMISSION

47 CFR Part 54

[CC Docket Nos. 02-6, 96-45 and 97-21; FCC 23-56; FR ID 184270]

Schools and Libraries Universal Service Support Mechanism, Federal-State Joint Board on Universal Service, and Changes to the Board of Directors of the National Exchange Carrier Association, Inc

AGENCY: Federal Communications Commission.

ACTION: Final rule; announcement of effective date.

SUMMARY: In this document, the Federal Communications Commission (Commission) announces that the Office of Management and Budget (OMB) has approved, until November 30, 2024, the information collection associated with the Commission's Schools and Libraries Universal Service Support Mechanism, Federal-State Joint Board on Universal Service, and Changes to the Board of Directors of the National Exchange Carrier Association, Inc. Report and Order's (Order) E-Rate rules. This document is consistent with the Order, which stated the Commission would publish a document in the Federal Register announcing the effective date of the amendments to the Commission's regulations.

DATES: The amendments to 47 CFR 54.503(c)(2)(i)(B) and 54.504(a)(1)(ii) published at 88 FR 55410, August 15, 2023 are effective November 13, 2023.

FOR FURTHER INFORMATION CONTACT: Contact Nicole Ongele at (202) 418-2991 or via email: Nicole.Ongele@fcc.gov.

SUPPLEMENTARY INFORMATION: This document announces that, on September 25, 2023, OMB approved the information collection requirements relating to the E-Rate rules contained in the Commission's Order, FCC 23-56, published at 88 FR 55410, August 15, 2023. The OMB Control Number is 3060-0806. The Commission publishes this document as an announcement of the effective date of the rules. If you have any comments on the burden estimates listed below, or how the Commission can improve the collections and reduce any burdens caused thereby, please contact Nicole Ongele, Federal Communications Commission, 45 L Street NE, Washington, DC 20554. Please include the OMB Control Number, 3060-0806, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received OMB approval on September 25, 2023, for the information collection requirements contained in 47 CFR 54.503(c)(2)(i)(B) and 54.504(a)(1)(ii) published at 88 FR 55410, August 15, 2023. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0806.

The foregoing notice is required by the Paperwork Reduction Act of 1995, Public Law 104-13, October 1, 1995, and 44 U.S.C. 3507.

The total annual reporting burdens and costs for the respondents are as follows:

OMB Control Number: 3060-0806.

OMB Approval Date: September 25, 2023.

OMB Expiration Date: November 30, 2024.

Title: Universal Service—Schools and Libraries Universal Service Program, FCC Forms 470 and 471.

Form Number: FCC Form 470 and FCC Form 471.

Respondents: State, local or tribal government institutions, and other not-for-profit institutions.

Number of Respondents and Responses: 43,000 respondents; 67,100 responses.

Estimated Time per Response: 3.5 hours for FCC Form 470 (3 hours for response; 0.5 hours for recordkeeping; 4.5 hours for FCC Form 471 (4 hours for response; 0.5 hours for recordkeeping).

Frequency of Response: On occasion and annual reporting requirements, and recordkeeping requirement.

Obligation to Respond: Required to obtain or retain benefits. Statutory authority for this information collection is contained in sections 1, 4(i), 4(j), 201-205, 214, 254, and 403 of the Communications Act of 1934, as amended, 47 U.S.C. 151-154, 201-205, 218-220, 254, 303(r), 403 and 405.

Total Annual Burden: 273,950 hours.

Total Annual Cost: No Cost.

Needs and Uses: The Commission received approval from OMB for this information collection. On July 21, 2023, the Commission released the Schools and Libraries Universal Service Support Mechanism, Federal-State Joint Board on Universal Service, and Changes to the Board of Directors of the National Exchange Carrier Association, Inc. Report and Order in CC Docket Nos. 02-6, 96-45, and 97-21; FCC 23-56 (Order) amending E-Rate rules. This information collection addresses program certifications in the Schools and Libraries Universal Service Description of Services Requested and Certification Forms 470 (E-Rate FCC Form 470) and 471 (E-Rate FCC Form 471), and makes other non-substantive changes to certain fields to the E-Rate FCC Form 471. Collection of the information on FCC Forms 470 and 471 is necessary so that the Commission and USAC have sufficient information to determine if entities are eligible for funding pursuant to the schools and libraries support mechanism, to determine if entities are complying with the Commission's rules, and to prevent waste, fraud, and abuse. In addition, the information is necessary for the Commission to evaluate the extent to which the E-Rate program is meeting the statutory objectives specified in section 254(h) of the 1996 Act, and the Commission's performance goals established in the E-Rate Modernization Order and Second E-Rate Modernization Order.

Federal Communications Commission.
Marlene Dortch,
Secretary, Office of the Secretary.

[FR Doc. 2023-24876 Filed 11-9-23; 8:45 am]

BILLING CODE 6712-01-P